DEPARTMENT OF THE TREASURY

United States Mint

Pricing for the 2015 American Liberty High Relief Gold Coin

AGENCY: United States Mint, Department of the Treasury.

ACTION: Notice.

SUMMARY: The United States Mint is announcing the price of the 2015 American Liberty High Relief Gold Coin. This coin will be offered for sale based on the following pricing grid.

Weekly average gold price | Size | 2015 American Liberty High Relief Gold Coin
$1,000.00 to $1,049.99 | 1 Troy oz. | $1,440.00
$1,050.00 to $1,099.99 | 1 Troy oz. | 1,490.00
$1,100.00 to $1,149.99 | 1 Troy oz. | 1,540.00
$1,150.00 to $1,199.99 | 1 Troy oz. | 1,590.00
$1,200.00 to $1,249.99 | 1 Troy oz. | 1,640.00
$1,250.00 to $1,299.99 | 1 Troy oz. | 1,690.00
$1,300.00 to $1,349.99 | 1 Troy oz. | 1,740.00
$1,350.00 to $1,399.99 | 1 Troy oz. | 1,790.00
$1,400.00 to $1,449.99 | 1 Troy oz. | 1,840.00
$1,450.00 to $1,499.99 | 1 Troy oz. | 1,890.00
$1,500.00 to $1,549.99 | 1 Troy oz. | 1,940.00
$1,550.00 to $1,599.99 | 1 Troy oz. | 1,990.00
$1,600.00 to $1,649.99 | 1 Troy oz. | 2,040.00
$1,650.00 to $1,699.99 | 1 Troy oz. | 2,090.00

Pricing can vary weekly dependent upon the LBMA London Gold Price weekly average gold price. Pricing is evaluated every Wednesday and is modified if necessary.

FOR FURTHER INFORMATION CONTACT: Nanette Evans, Division Chief; Product Management Division; United States Mint; 801 9th Street NW., Washington, DC 20220; or call 202-354-7500.

Authority: 31 U.S.C. 5111, 5112, and 9701

Dated: July 7, 2015.
Richard A. Peterson,
Deputy Director for Manufacturing and Quality, United States Mint.

[FR Doc. 2015-17009 Filed 7-10-15; 8:45 am]

BILLING CODE P